NATIONAL AERONAUTICS AND SPACE ADMINISTRATION

[Notice 00-108]

Information Collection; Submission for OMB Review, Comment Request

AGENCY: National Aeronautics and Space Administration (NASA).

ACTION: Notice of agency report forms under OMB review.

SUMMARY: The National Aeronautics and Space Administration has submitted to the Office of Management and Budget (OMB) the following proposal for the collection of information under the provisions of the Paperwork Reduction Act (44 U.S.C. Chapter 35).

DATES: Comments on this proposal should be received on or before October 16, 2000.

ADDRESSES: All comments should be addressed to Ms. Linda Connell, MS 262-7, Ames Research Center, National Aeronautics and Space Administration, Moffett Field, CA 94035-1000.

FOR FURTHER INFORMATION CONTACT: Ms. Carmela Simonson, Office of the Chief Information Officer, (202) 358-1223.

Reports: None.

Title: National Aviation Operations Monitoring Service.

OMB Number: 2700.

Type of review: New.

Need and Uses: This data collection will be used to help evaluate national aviation safety through the establishment of a survey based methodology. Information provided will be used to measure and monitor aviation safety; namely the pilots, air traffic controllers, mechanics and flight attendants who routinely operate aircraft and provide support services.

Affected Public: Individuals or households.

Number of Respondents: 5,000.

Responses Per Respondent: 1-4.

Annual Responses: 8,000.

Hours Per Request: ½ hr to ¾ hr.

Annual Burden Hours: 5,907.

Frequency of Report: Annually/Quarterly.

David B. Nelson,
Deputy Chief Information Officer, Office of the Administrator.

[FR Doc. 00-23703 Filed 9-14-00; 8:45 am]

BILLING CODE 7510-01-P